CORPORATION FOR NATIONAL AND COMMUNITY SERVICE

Proposed Information Collection; Comment Request

AGENCY: Corporation for National and Community Service.

ACTION: Notice.

SUMMARY: The Corporation for National and Community Service (the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its AmeriCorps Application Instructions: States without Commissions. These application instructions are used by current and prospective grantees to apply for funds for these programs.

Copies of the information collection request can be obtained by contacting the office listed in the address section of this notice.

DATES: Written comments must be submitted to the individual and office listed in the ADDRESSES section by December 11, 2006.

ADDRESSES: You may submit comments, identified by the title of the information collection activity, by any of the following methods:

(1) By mail sent to: Corporation for National and Community Service, AmeriCorps State and National, Amy Borgstrom, Associate Director for Policy, 1201 New York Ave., NW., Washington, DC 20525.

(2) By hand delivery or by courier to the Corporation's mailroom at Room 8100 at the mail address given in paragraph (1) above, between 9 a.m. and 4 p.m. Monday through Friday, except Federal holidays.

(3) By fax to: (202) 606-3476, Attention Amy Borgstrom, Associate Director for Policy.

(4) Electronically through the Corporation's e-mail address system: aborgstrom@cns.gov.

FOR FURTHER INFORMATION CONTACT: Amy Borgstrom, (202) 606-6930 or by e-mail at aborgstrom@cns.gov.

SUPPLEMENTARY INFORMATION: The Corporation is particularly interested in comments that:

• Evaluate whether the proposed collection of information is necessary for the proper performance of the functions of the Corporation, including whether the information will have practical utility;

Evaluate the accuracy of the agency's estimate of the burden of the proposed collection of information, including the validity of the methodology and assumptions used;

Enhance the quality, utility, and clarity of the information to be collected; and

Minimize the burden of the collection of information on those who are expected to respond, including the use of appropriate automated, electronic, mechanical, or other technological collection techniques or other forms of information technology (e.g., permitting electronic submissions of responses).

Background: AmeriCorps grants are generally awarded to eligible organizations to recruit, train, and manage AmeriCorps members who address unmet community needs. AmeriCorps members are individuals who engage in community service. Members may receive a living allowance during their term of service. Upon successful completion of their service members receive an education award from the National Service Trust.

Roughly three quarters of all AmeriCorps grant funding goes to Governor-appointed state service commissions which award subgrants to nonprofit organizations in their States. The AmeriCorps Application Instructions: States without Commissions, are used by applicants interested in these programs. The application is completed electronically using eGrants, the Corporation's Web-based grants management system.

Current Action: The Corporation seeks to separate the current application instructions into two separate sets of instructions in order to increase clarity and ease of use. The application will be used in the same manner as the existing application. The Corporation also seeks to continue using the current application instructions until the revised application instructions are approved by the Office of Management and Budget (OMB). The current application instructions are due to expire on April 30, 2009.

Type of Review: New, previously part of 3045-0047.

Agency: Corporation for National and Community Service.

Title: AmeriCorps Application Instructions: States without Commissions.

OMB Number: None.

Agency Number: None.

Affected Public: State governments.

Total Respondents: 1,500 potential subgrantees and 54 State commissions submitting State competitive and State formula grant requests.

Frequency: Annually.

Average Time per Response: 24 hours for potential subgrantees, 24 hours for State commissions submitting State competitive requests, 8 hours for State commissions submitting state formula requests.

Estimated Total Burden Hours: 37,728 hours.

Total Burden Cost (capital/startup): None.

Total Burden Cost (operating/maintenance): None.

Comments submitted in response to this Notice will be summarized and/or included in the request for OMB approval of the information collection request; they will become a matter of public record.

Dated: October 4, 2006.
Kristin McSwain,
Director, AmeriCorps State and National.

[FR Doc. E6-16837 Filed 10-11-06; 8:45 am]

BILLING CODE 6050-$$-P